DEPARTMENT OF THE INTERIOR

Fish and Wildlife Service

Notice of Intent To Conduct Public Scoping Meeting To Obtain Suggestions and Information on Issues to Include in the Preparation of a Comprehensive Conservation Plan for Roanoke River National Wildlife Refuge in North Carolina

SUMMARY: This notice advises the public that the U.S. Fish and Wildlife Service intends to gather information necessary to prepare a Comprehensive Conservation Plan and associated environmental documents for this refuge in pursuant to the National Environmental Policy Act and implementing regulations.

The meetings are scheduled as follows: Tuesday, May 22, 2001, 6 p.m.-9 p.m., Bertie County Courthouse, 108 Dundee Street, Windsor, North Carolina 27983; Thursday, May 24, 2001, 6 p.m.-9 p.m., Halifax County Agricultural Center, 359 Ferrell Lane, Halifax, North Carolina 27839.

DATES: Written comments should be received on or before June 6, 2001.

ADDRESSES: Comments and requests for information concerning this refuge may be addressed to D.A. Brown, M.S., P.W.S., 1106 West Queen Street, P.O. box 329, Edenton, North Carolina 27932, 252/482-2364, 252/482-3855 (fax), 252/337-5283 (cell).

Information concerning this refuge may be found at the following website: http://rtncf.rci.ral.r4.fws.gov

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address from the rulemaking record, which we will honor to the extent allowable by law. There also may be circumstances in which we could withhold from the rulemaking record a respondent's identify, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement management strategies.

Roanoke River National Wildlife Refuge was established in August 1989, to protect and enhance wooded wetlands consisting of bottomland hardwoods and swamps with high waterfowl value along the Roanoke River.

Dated: April 17, 2001.
Judy L. Pulliam,
Acting Regional Director.

[FR Doc. 01-11357 Filed 5-4-01; 8:45 am]

BILLING CODE 4310-55-M